DEPARTMENT OF COMMERCE

National Oceanic and Atmospheric Administration

[I.D. 032002B]

Endangered Species; Permits

AGENCY: National Marine Fisheries Service (NMFS), National Oceanic and Atmospheric Administration (NOAA), Commerce.

ACTION: Receipt of request to modify research and enhancement permit 1266.

SUMMARY: Notice is hereby given of the following actions regarding permits for takes of endangered and threatened species for the purposes of scientific research and/or enhancement under the Endangered Species Act (ESA): NMFS has received a request to modify permit (1266) from John Glass, of REMSA, Inc. (1266).

DATES: Comments or requests for a public hearing on any of the new applications or modification requests must be received at the appropriate address or fax number no later than 5 p.m. eastern standard time on April 26, 2002.

ADDRESSES: Written comments on the modification requests should be sent to the appropriate office as indicated below. Comments may also be sent via fax to the number indicated. Comments will not be accepted if submitted via e-mail or the Internet. The application and related documents are available for review in the indicated office, by appointment:

Permits, Conservation and Education Division, F/PR1, 1315 East West Highway, Silver Spring, MD 20910 (phone:301-713-2289, fax: 301-713-0376).

FOR FURTHER INFORMATION CONTACT: Lillian Becker, Silver Spring, MD (phone: 301-713-2319, fax: 301-713-0376, e-mail: Lillian.Becker@noaa.gov).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea Turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

The applicant requests a modification to Permit 1266. Permit 1266 authorizes the capture by trawl, handle, flipper tag and release of sea turtles while removing them from the path of hopper dredges. The Permit authorized the take of 30 loggerhead, 7 green, 5 Kemp's ridleys, 4 hawksbills and 4 leatherback sea turtles. These animals were measured, flipper tagged and released. Modification #1 would increase the authorized annual take to 350 loggerhead, 150 green, 150 Kemp's ridley, 10 hawksbill and 10 leatherback sea turtles for the purpose of moving them out of the path of hopper dredges and to tag the sea turtles for tracking purposes. The applicant would also begin passive integrated transponder (PIT) tagging the sea turtles.

Dated: March 21, 2002.
Ann Terbush,
Chief, Permits, Conservation, and Education Division, Office of Protected Resources, National Marine Fisheries Service.

[FR Doc. 02-7341 Filed 3-26-02; 8:45 am]

BILLING CODE 3510-22-S